NATIONAL SCIENCE FOUNDATION

Advisory Committee for Technology, Innovation and Partnerships; Notice of Meeting

In accordance with the Federal Advisory Committee Act (Pub., L. 92-463, as amended), the National Science Foundation (NSF) announces the following meeting:

Name and Committee Code: Advisory Committee for Technology, Innovation and Partnerships (#84684) (Hybrid).

Date and Time: October 30, 2024; 12pm-4pm (Eastern).

Place: NSF, 2415 Eisenhower Avenue, Alexandria, VA 22314 (Hybrid).

The meeting will be hybrid, with some Advisory Committee members participating in person and others participating virtually. Members of the public can view the meeting virtually. To attend the virtual meeting, please send your request for the virtual meeting link to the following email: afenzel@nsf.gov.

Type of Meeting: Open.

Contact Persons: Chaitanya Baru, Senior Advisor, National Science Foundation, 2415 Eisenhower Avenue, Alexandria, VA 22314; Telephone: (703) 292-8050. Additional meeting information, an updated agenda, and registration information will be posted on the AC's website at https://new.nsf.gov/tip/tip-advisory-commitee.

Purpose of Meeting: To provide advice to the National Science Foundation concerning implementation of the provisions of the CHIPS and Science Act of 2022, Public Law 117-167, pertaining to the Directorate for Technology, Innovation and Partnerships (TIP), along with other related policies and activities of the Foundation.

Agenda

Wednesday, October 30, 2024

• Welcome and overview of the TIP Advisory Committee's charge

• Introduction to TIP, including current portfolio of investments and partnerships

• Strategic recommendations for TIP

• Next steps and closing remarks

Dated: September 26, 2024.
Crystal Robinson,
Committee Management Officer.

[FR Doc. 2024-22538 Filed 9-30-24; 8:45 am]

BILLING CODE 7555-01-P